DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Jeffrey C. Anspacher, Director, Office of Export Trading Company Affairs, International Trade Administration, by telephone at (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 02-00001.” A summary of the application follows.

Summary of the Application

Applicant: ROCACO INC., dba REIS Network & World Business Exchange Network, 5777 W. Century Blvd., Suite 300, Los Angeles, California 90045.

Contact: Roosevelt Roby, Founder and Chairman.

Telephone: (310) 829-2606.

Application No.: 02-00001.

Date Deemed Submitted: March 18, 2002.

Members (in addition to applicant): The REIS Foundation, Los Angeles, CA.

ROCACO INC., dba REIS Network and World Business Exchange Network seeks a Certificate to cover the following specific Export Trade, Export Markets, and Export Trade Activities and Methods of Operations.

Export Trade

1. Products

All products.

2. Services

All services.

3. Technology Rights

Technology Rights, including, but not limited to, patents, trademarks, copyrights and trade secrets that relate to Products and Services.

4. Export Trade Facilitation Services

Export Trade Facilitation Services include professional services in the areas of government relations and assistance with state and federal programs; foreign trade and business protocol; consulting; market research and analysis; collection and dissemination of information on trade opportunities; marketing; negotiations; joint ventures; export management; export licensing; advertising; documentation and services related to compliance with customs requirements; insurance and financing; trade show exhibitions and seminars; organizational development; management and labor strategies; transfer of technology and facilitating transportation and shipping.

Export Markets

The Export Markets include all parts of the world except the United States (the fifty states of the United States, the District of Columbia, the Commonwealth of Puerto Rico, the Virgin Islands, American Samoa, Guam, the Commonwealth of the Northern Mariana Islands, and the Trust Territory of the Pacific Islands).

Applicant seeks to have the following export conduct certified:

1. To promote all Products and Services suitable for Export Trade;

2. To recruit and train individuals, companies and entrepreneurs on the methods of facilitating the exportation of goods and service produced in the U.S.;

3. To stimulate productive business attitudes and create well-developed export trade intermediaries;

4. To assist in creating and maintaining manufacturing and other trade related jobs to achieve economies of scale and acquire expertise enabling them to export goods and services profitably;

5. To participate in those activities of State and local government authorities which initiate, facilitate or expand exports of goods and services for the expansion of total U.S. exports; as well as for experimentation in the development of innovative export programs keyed to local, State and regional economic needs;

6. Be able to draw upon the resources, expertise and knowledge of the United States banking system, both in the U.S. and abroad;

7. Work closely with the Department of Commerce for the development and promotion of U.S. exports, and especially for facilitating the export of finished products by U.S. manufacturers;

8. Promote Technology Rights, including, but not limited to, patents, trademarks, copyrights, and trade secrets, that relate to Products and Services;

9. Provide Export Trade Facilitation Services (as they relate to the Export of Products, Services, and Technology Rights);

10. With respect to the sale of Products and Services, licensing of Technology Rights and provisions of Export Trade Facilitation Services, Applicant may:

a. Develop Export Trading Companies who provide and/or arrange for the provisions of Export Trade Facilitation Services;

b. Engage in promotional and marketing activities and collect information on trade opportunities in the Export Markets and distribute such information to clients;

c. Enter into exclusive and/or non-exclusive licensing and/or sales agreements with Suppliers for the export of Products, Services, and/or Technology Rights in Export Markets;

d. Enter into exclusive and/or non-exclusive agreements with distributors and/or sales representatives in Export Markets;

e. Allocate export sales or divide Export Markets among Suppliers for the sale and/or licensing of Products, Services, and/or Technology Rights;

f. Allocate export orders among Suppliers.

11. Applicant may:

a. Establish the price of Products, Services, and/or Technology Rights for sales and/or licensing in Export Markets;

b. Negotiate, enter into, and/or manage licensing agreements for the export of Technology Rights; or

c. Enter into contracts for shipping.

12. Applicant and individual Suppliers may regularly exchange information on a one-on-one basis regarding that Supplier's inventories and near-term production schedules in order that the availability of Products for export can be determined and effectively coordinated by applicant with its distributor trainees in Export Markets.

Definitions

1. “Supplier” means a person who produces, provides, or sells a Product and/or Service.

Dated: March 27, 2002.
Jeffrey C. Anspacher,
Director, Office of Export Trading Company Affairs.

[FR Doc. 02-7786 Filed 3-29-02; 8:45 am]

BILLING CODE 3510-DR-P